DEPARTMENT OF JUSTICE

Antitrust Division

Notice Pursuant to the National Cooperative Research and Production Act of 1993—Information Warfare Research Project Consortium

Notice is hereby given that, on October 7, 2025, pursuant to section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, 1gs Corporation, San Rafael, CA; 22nd Century Technologies, Inc., Mclean, VA; Arete Associates, Northridge, CA; Atrenne Computing Solutions, LLC, Brockton, MA; Birdon America INC, Denver, CO; Blue Sky Innovators Inc., Reston, VA; Chickasaw Aerospace, LLC, Norman, OK; Collabralink Technologies, Incorporated (Groundswell Corp.), Mc Lean, VA; Crius Technology Group, Inc., Austin, TX; Dynamic Solutions-International LLC, Edmonds, WA; Govsignals Inc., New York, NY; Invoke Public Sector USA LLC, Atlanta, GA; Monterey Technologies INC, Park City, UT; Nanohmics INC, Austin, TX; Orbit Communication Systems, Inc., Deerfield Beach, FL; S10 Fitness LLC, San Diego, CA; Saronic Technologies, INC, Austin, TX; Science Systems and Applications, Inc., Lanham, MD; Scout AI Inc., Sunnyvale, CA; Sofar Ocean Technologies, Inc., San Francisco, CA; Storage Strategies INC, Manassas Park, VA; Sudofy, LLC, Hanahan, SC; Technology Advancement Center, Inc., Columbia, MD; Thermoai INC, Alexandria, VA; Thomson Reuters Special Services LLC, Mc Lean, VA; Trideum Corporation, Huntsville, AL; Turnkey Federal LLC, Tampa, FL; Universal Solutions International, Incorporated, Newport News, VA; and Verity Truss Consulting, LLC, Arlington, VA, have been added as parties to this venture.

Also, Aosense, Inc., Fremont, CA; Aperio Global LLC, Reston, VA; Arete Associates, Inc., Falls Church, VA; Aurora Insight INC, Herndon, VA; B23 LLC, Tysons, VA; Boarhog, LLC, San Diego, CA; Bridgecomm, Inc., Lafayette, CO; Cape Henry Associates, Inc., Virginia Beach, VA; Clear Align LLC, Eagleville, PA; Colossal Contracting LLC, Annapolis, MD; Cornet Technology, Inc., Springfield, VA; Descartes Labs Government INC, New York, NY; Dynamic Dimension Technologies, LLC, Westminster, MD; Endgame Systems LLC, Arlington, VA; Envistacom LLC, Atlanta, GA; Epirus, INC, Torrance, CA; Fcn INC, Rockville, MD; Foresight Data Systems LLC, Columbia, SC; Hayes Group International LLC, Washington, DC; Illumio, Inc., Sunnyvale, CA; Intelsat General Communications LLC, Mc Lean, VA; Jupiter LLC, Silver Spring, MD; Modern Intelligence, Inc., Austin, TX; Omni Technologies LLC, Aberdeen, MD; Phelps2020, INC, Knoxville, TN; Premier Federal, Inc., Atlanta, GA; Ptc Inc., Boston, MA; Rwc, LLC, Annapolis, MD; Symbiosis.io LLC, Smyrna, GA; Teradata Government Systems LLC, San Diego, CA; Three Wire Systems, LLC, Mc Lean, VA; Time Systems LLC, Dumfries, VA; Trabus, San Diego, CA; Vetable Technologies LLC, Brandon, FL; Viavi Solutions Inc., Germantown, MD; Vidoori, Inc., Hyattsville, MD; and Vimaan Robotics, Inc., San Jose, CA, have withdrawn as parties to this venture.

No other changes have been made in either the membership or planned activity of the group research project. Membership in this group research project remains open, and IWRP Consortium intends to file additional written notifications disclosing all changes in membership.

On October 15, 2018, IWRP Consortium filed its original notification pursuant to section 6(a) of the Act. The Department of Justice published a notice in the Federal Register pursuant to section 6(b) of the Act on October 23, 2018 (83 FR 53499).

The last notification was filed with the Department on July 9, 2025. A notice was published in the Federal Register pursuant to section 6(b) of the Act on August 15, 2025 (90 FR 39424).

Suzanne Morris,
Deputy Director Civil Enforcement Operations, Antitrust Division.

[FR Doc. 2025-24172 Filed 12-31-25; 8:45 am]

BILLING P